DEPARTMENT OF TRANSPORTATION

Federal Aviation Administration

14 CFR Part 71

[Docket No. FAA-2023-2314; Airspace Docket No. 22-ASO-23]

RIN 2120-AA66

Amendment and Revocation of Multiple Air Traffic Service (ATS) Routes; Eastern United States

AGENCY: Federal Aviation Administration (FAA), DOT.

ACTION: Final rule.

SUMMARY: This action amends Very High Frequency Omnidirectional Range (VOR) Federal Airways V-66, V-155, V-157, V-258, V-266, V-454, and V-469; and revokes VOR Federal Airway V-189 and Colored Federal Airway Green 13 (G-13) in the eastern United States. The FAA is taking this action due to the planned decommissioning of the Danville, VA (DAN), VOR; Franklin, VA (FKN), VOR/Tactical Air Navigation (VORTAC); Lawrenceville, VA (LVL), VORTAC; Wright Brothers, NC (RBX), VOR/Distance Measuring Equipment (VOR/DME); and Manteo, NC (MQI), Nondirectional Radio Beacon (NDB). This action is in support of the FAA's VOR Minimum Operational Network (MON) Program.

DATES: Effective date 0901 UTC, September 5, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a NPRM for Docket No. FAA 2023-2314 in the Federal Register (88 FR 87380; December 18, 2023), proposing to amend seven VOR Federal airways, revoke one VOR Federal airway, and revoke one Colored Federal airway in the eastern United States. Interested parties were invited to participate in this rulemaking effort by submitting written comments on the proposal to the FAA. No comments were received.

Differences From the NPRM

Subsequent to publication of the NPRM, the FAA identified that the exclusionary statement in the description of VOR Federal Airways V-155 and V-157 excluding restricted area R-6602 is no longer necessary as the airway segments adjacent to R-6602 are being removed. This action removes these exclusionary statements.

Additionally, minor editorial corrections to the airway descriptions are made to comply with ATS route formatting requirements.

Incorporation by Reference

Domestic VOR Federal Airways are published in paragraph 6010(a) and Colored Federal airways are published in paragraph 6009 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending VOR Federal Airways V-66, V-155, V-157, V-258, V-266, V-454, and V-469; and revoking VOR Federal Airway V-189 and Colored Federal Airway G-13. These changes facilitate the scheduled decommissioning of the following navigation aids: Danville, VA (DAN), VOR; Franklin, VA (FKN), VORTAC; Lawrenceville, VA (LVL), VORTAC; Wright Brothers, NC (RBX), VOR/DME; and Manteo, NC (MQI), NDB. The amendments are described below.

G-13: Prior to this final rule, G-13 extended between the Manteo, NC (MQI), NDB and the ZOLMN, NC, Fix. The FAA removes the route in its entirety.

V-66: Prior to this final rule, V-66 extended between the Mission Bay, CA (MZB), VORTAC and the Millsap, TX (MQP), VORTAC; between the Brookwood, AL (OKW), VORTAC and the LaGrange, GA (LGC), VORTAC; and between the Sandhills, NC (SDZ), VORTAC and the Franklin, VA (FKN), VORTAC. The FAA removes the airway segment between the Raleigh/Durham, NC (RDU), VORTAC and the Franklin VORTAC. As amended, the route extends between the Mission Bay VORTAC and the Millsap VORTAC; between the Brookwood VORTAC and the LaGrange VORTAC; and between the Sandhills VORTAC and the Raleigh/Durham VORTAC.

V-155: Prior to this final rule, V-155 extended between the intersection of the Dublin, GA (DBN), VORTAC 309° and the Colliers, SC (IRQ), VORTAC 243° radials, and the Brooke, VA (BRV), VORTAC. The FAA removes the airway segments between the Raleigh/Durham, NC (RDU), VORTAC and the Flat Rock, VA (FAK), VORTAC. As amended, the route extends between the intersection of the Dublin, VORTAC 309° and the Colliers VORTAC 243° radials and the Raleigh/Durham VORTAC; and between the Flat Rock VORTAC and the Brooke VORTAC.

V-157: Prior to this final rule, V-157 extended between the Key West, FL (EYW), VORTAC and the Waycross, GA (AYS), VORTAC; between the Florence, SC (FLO), VORTAC and the Richmond, VA (RIC), VORTAC; and between the Robbinsville, NJ (RBV), VORTAC and the Albany, NY (ALB), VORTAC. The FAA removes the airway segments between the Tar River, NC (TYI), VORTAC and the Richmond VORTAC. As amended, the route extends between the Key West VORTAC and the Waycross VORTAC; between the Florence VORTAC and the Tar River VORTAC; and between the Robbinsville VORTAC and the Albany VORTAC.

V-189: Prior to this final rule, V-189 extended between the Wright Brothers, NC (RBX), VOR/DME and the Hopewell, VA (HPW), VORTAC. The FAA removes the route in its entirety.

V-258: Prior to this final rule, V-258 extended between the Charleston, WV (HVQ), VOR/DME and the Danville, VA (DAN), VOR. The FAA removes the airway segments between the Roanoke, VA (ROA), VOR/DME and the Danville VOR. As amended, the route extends between the Charleston VOR/DME and the Roanoke VOR/DME.

V-266: Prior to this final rule, V-266 extended between the Electric City, SC (ELW), VORTAC and the Spartanburg, SC (SPA), VORTAC; and between the Greensboro, NC (GSO), VORTAC and the Wright Brothers, NC (RBX), VOR/DME. The FAA removes the airway segments between the South Boston, VA (SBV), VORTAC and the SUNNS, NC, Fix; and between the Elizabeth City, NC (ECG), VOR/DME, and the Wright Brothers VOR/DME. The SUNNS intersection is defined by the intersection of the Elizabeth City, VOR/DME 304° and the Norfolk, VA (OFK), VOR/DME 209° radials. As amended, the route extends between the Electric City VORTAC and the Spartanburg VORTAC; between the Greensboro VORTAC and the South Boston VORTAC; and between the intersection of the Elizabeth City VOR/DME 304° and Norfolk, VA 209° radials and the Elizabeth City VOR/DME.

V-454: Prior to this final rule, V-454 extended between the Brookley, AL (BFM), VORTAC and the Monroeville, AL (MVC), VORTAC; and between the intersection of the Charlotte, VA (CLT), VOR/DME 034° and Liberty, NC (LIB), VORTAC 253° radials and the Hopewell, VA (HPW), VORTAC. The FAA removes the airway segments between the Liberty VORTAC and the Hopewell VORTAC. As amended, the route extends between the Brookley VORTAC and the Monroeville VORTAC; and between the intersection of the Charlotte VOR/DME 034° and Liberty VORTAC 253° radials and the Liberty VORTAC.

V-469: Prior to this final rule, V-469 extended between the Danville, VA (DAN), VOR and the Johnstown, PA (JST), VOR/DME; and between the Harrisburg, PA (HAR), VORTAC and the Woodstown, NJ (OOD), VORTAC. The FAA removes the airway segment between the Danville VOR and the Lynchburg, VA (LYH), VOR/DME. As amended, the route extends between the Lynchburg VOR/DME and the Johnstown VOR/DME; and between the Harrisburg VORTAC and the Woodstown VORTAC.

The navigational aid radials listed are stated in True degrees.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal Airway V-66, V-155, V-157, V-258, V-266, V-454, and V-469, and revoking VOR Federal Airway V-189 and Colored Federal Airway G-13 in the eastern United States, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6009(a) Colored Federal Airways.

* * * * *

G-13 [Removed]

* * * * *

Paragraph 6010(a) Domestic VOR Federal Airways.

* * * * *

V-66 [Amended]

From Mission Bay, CA; Imperial, CA; 13 miles, 24 miles, 25 MSL; Bard, AZ; 12 miles, 35 MSL; INT Bard 089° and Gila Bend, AZ, 261° radials; 46 miles, 35 MSL; Gila Bend; Tucson, AZ, 7 miles wide (3 miles south and 4 miles north of centerline); Douglas, AZ; INT Douglas 064° and Columbus, NM, 277° radials; Columbus; El Paso, TX; 6 miles wide; INT El Paso 109° and Hudspeth, TX, 287° radials; 6 miles wide; Hudspeth; Pecos, TX; Midland, TX; INT Midland 083° and Abilene, TX, 252° radials; Abilene; to Millsap, TX. From Brookwood, AL; to LaGrange, GA. From Sandhills, NC; to Raleigh-Durham, NC.

* * * * *

V-155 [Amended]

From INT Dublin, GA 309° and Colliers, SC, 243° radials; Colliers; Chesterfield, SC; Sandhills, NC; to Raleigh-Durham, NC. From Flat Rock, VA; to Brooke, VA.

* * * * *

V-157 [Amended]

From Key West, FL; INT Key West 038° and Dolphin, FL, 244° radials; Dolphin; INT Dolphin 331°and La Belle, FL, 113° radials; La Belle; Lakeland, FL; Ocala, FL; INT Ocala 346° and Taylor, FL,170° radials; Taylor; to Waycross, GA. From Florence, SC; Fayetteville, NC; Kinston, NC; to Tar River, NC. From Robbinsville, NJ; INT Robbinsville 044° and LaGuardia, NY, 213° radials; LaGuardia; INT LaGuardia 032° and Deer Park, NY, 326° radials; INT Deer Park 326° and Kingston, NY, 191° radials; Kingston; to Albany, NY.

* * * * *

V-189 [Removed]

* * * * *

V-258 [Amended]

From Charleston, WV, Beckley, WV; INT Beckley 125° and Roanoke, VA, 288° radials; to Roanoke.

* * * * *

V-266 [Amended]

From Electric City, SC, to Spartanburg, SC. From Greensboro, NC; to South Boston, VA. From INT Elizabeth City, NC 304° and Norfolk, VA 209° radials to Elizabeth City.

* * * * *

V-454 [Amended]

From Brookley, AL; to Monroeville, AL. From INT Charlotte, NC 034° and Liberty, NC, 253° radials; to Liberty.

* * * * *

V-469 [Amended]

From Lynchburg, VA; INT Lynchburg 347° and Elkins, WV, 142° radials; Elkins; Morgantown, WV; INT Morgantown 010° and Johnstown, PA, 260°; to Johnstown. From Harrisburg, PA; Dupont, DE; to Woodstown, NJ.

* * * * *

Issued in Washington, DC, on June 17, 2024.
Frank Lias,
Manager, Rules and Regulations Group.

[FR Doc. 2024-13676 Filed 6-21-24; 8:45 am]

BILLING CODE 4910-13-P